DEPARTMENT OF DEFENSE

Department of the Navy

Notice of Intent To Prepare an Environmental Impact Statement for Northwest Range Complex Extension, Naval Undersea Warfare Center, Division Keyport, Keyport, WA

AGENCY: Department of the Navy, DOD.

ACTION: Notice.

SUMMARY: Pursuant to Section 102 (2) (c) of the National Environmental Policy Act (NEPA) of 1969, as implemented by the Council on Environmental Quality regulations (40 CFR Parts 1500-1508), the Department of the Navy (Navy) announces its intent to prepare an Environmental Impact Statement/Overseas Environmental Impact Statement (EIS/OEIS) to evaluate the potential environmental impacts associated with the extension of the Northwest Range Complex, in Washington state, to provide additional space and volume outside the existing operational areas, to support the existing and evolving range operations of Naval Undersea Warfare Center, Division Keyport, Keyport, WA (NUWCDIVKPT). Existing and evolving range operations include requirements for testing, training, and evaluation of manned and unmanned vehicles in multiple marine environments to evaluate system capabilities such as guidance, control, and sensor accuracy.

DATES: Public scoping meetings will be held in Kitsap County, WA, Mason County, WA, Jefferson County, WA, and Grays Harbor County, WA, to receive oral and/or written comments on environmental concerns that should be addressed in the EIS/OEIS. The public meeting dates are:

1. November 17, 2003, 6 p.m. to 9 p.m., Kitsap County, WA.

2. November 18, 2003, 6 p.m. to 9 p.m., Mason County, WA.

3. November 19, 2003, 6 p.m. to 9 p.m., Jefferson County, WA.

4. November 20, 2003, 6 p.m. to 9 p.m., Grays Harbor County, WA.

ADDRESSES: The public meeting locations are:

1. Kitsap County—Naval Undersea Museum, 610 Dowell Street, Keyport, WA.

2. Mason County—Belfair Elementary School, Gymnasium, 22900 NE Highway 3, Belfair, WA.

3. Jefferson County—Quilcene Public Schools, Multi-Purpose Room, 294715 Highway 101, Quilcene, WA.

4. Grays Harbor County—Hoquiam High School, Cafeteria, 501 West Emerson, Hoquiam, WA.

FOR FURTHER INFORMATION CONTACT: Mrs. Shaari Unger (Code 521), Naval Undersea Warfare Center Div, Keyport, 610 Dowell St, Keyport, WA 98345; (360) 315-7730, fax (360) 396-2259, E-Mail: RangeExtensionE @efanw.navfac. navy.mil.

SUPPLEMENTARY INFORMATION: The Navy needs to extend the Northwest Range Complex operating area to provide multiple in-water environments that meet the evolving operational requirements for manned and unmanned vehicle testing in Washington State. The Northwest Range Complex is comprised of three marine ranging areas in the Pacific Northwest (Washington state): (1) The Dabob Bay Military Operating Area (MOA), two Hood Canal MOAs and the connecting waters known as the Dabob Bay Range Complex (DBRC); (2) the Keyport MOA; and (3) the Quinault Underwater Tracking Range (QUTR) MOA which is located within the Navy MOA W237A. The range extension is required in order to provide adequate testing area and volume in multiple marine environments to fulfill the NUWCDIVKPT mission of providing test and evaluation services in both surrogate and simulated war-fighting environments for emergent manned and unmanned vehicle program operations.

Alternatives to be considered in the EIS/OEIS address the need to provide adequate testing area and volume as well as the type, tempo, and location of the testing and training to be conducted on the range. The alternatives proposed will meet the requirements for evolving range operations including manned and unmanned vehicle program needs. Additionally the alternatives will provide multiple marine environments including varied salinity types, variable depths, and surf zone access.

The Navy has developed three action alternatives that meet evolving range operations including manned and unmanned vehicle requirements. These alternatives meet operational criteria to provide adequate test and training area and volume in multiple marine environments in varying proximity to existing NUWCDIVKPT facilities. Alternative (1) is to conduct existing and new activities within the DBRC with extensions in Hood Canal north and south; including shallow water activity, extension of the Keyport Range operating area, and extension of QUTR operating area to W-237A. Alternative (2) is to conducting existing and new activities within the DBRC without extension, extension of the Keyport Range operating area, and extension of QUTR operating area to W-237A or (3) conducting existing and new activities within the DBRC with additional shallow water activity, extension of the Keyport Range operating area, and extension of QUTR operating area to W-237A. The No Action alternative is to continue activities carried out at existing operating areas for the DBRC, Keyport range, and QUTR.

The EIS/OEIS will evaluate the potential environmental impacts associated with identified alternatives. Issues to be addressed will include, but not be limited to, the following resource areas: marine/benthic communities, fisheries including an analysis of essential fish habitat, water quality, wildlife including threatened and endangered species and marine mammals, vegetation/plants, soils, land/shoreline use, recreation, socioeconomics, transportation, public utilities, cultural resources, usual and accustomed fishing, air quality, and noise. The analysis will include an evaluation of the direct, indirect, short-term, and cumulative impacts. No decision will be made to implement any alternative until the NEPA process is completed.

The Navy is initiating the scoping process to identify community concerns and local issues that will be addressed in the EIS/OEIS. Federal, state, local agencies, and interested persons are encouraged to provide oral and/or written comments to the Navy to identify specific issues or topics of environmental concern that should be addressed in the EIS/OEIS. The Navy will consider these comments in determining the scope of the EIS/OEIS.

Written comments on the scope of the EIS/OEIS should be submitted in accordance with future Federal Register notices for public scoping meetings and should be mailed to: Commander, Engineering Field Activity, Northwest, Naval Facilities Engineering Command, 19917 7th Ave NE., Poulsbo, WA 98370, Attn: Code 05EC3.KK (Mrs. Kimberly Kler) E-Mail: RangeExtensionE @efanw.navfac. navy.mil.

Dated: September 8, 2003.
E.F. McDonnel,
Major, U.S. Marine Corps, Federal Register Liaison Officer.

[FR Doc. 03-23181 Filed 9-10-03; 8:45 am]

BILLING CODE 3810-FF-U